NATIONAL SCIENCE FOUNDATION

Advisory Committee for Computer and Information Science and Engineering Notice of Meeting

In accordance with the Federal Advisory Committee Act (Pub. L. 92-463, as amended), the National Science Foundation (NSF) announces the following meeting:

Name and Committee Code: Advisory Committee for Computer and Information Science and Engineering (#1115).

Date and Time: June 13, 2024—11:00 a.m.-5:00 p.m. (Eastern); June 14, 2024—11:00 a.m.-5:00 p.m. (Eastern).

Place: NSF, 2415 Eisenhower Avenue, Alexandria, VA 22314 (Virtual).

Virtual meeting attendance only; to attend the virtual meeting, please send your request for the virtual meeting link to the following email: kmayberr@nsf.gov.

Type of Meeting: Open.

Contact Persons: KaJuana Mayberry, National Science Foundation, 2415 Eisenhower Avenue, Alexandria, VA 22314; Telephone:703-292-8900; email: kmayberr@nsf.gov.

Purpose of Meeting: To provide advice, recommendations, and counsel on major goals and policies pertaining to Computer and Information Science and Engineering programs and activities.

Agenda

• Introduction of the new CISE Assistant Director

• Update on CISE directorate activities

• Computing and Environmental Sustainability

• Broadening Participation in Computing

Dated: May 17, 2024.
Crystal Robinson,
Committee Management Officer.

[FR Doc. 2024-11201 Filed 5-21-24; 8:45 am]

BILLING CODE 7555-01-P